DEPARTMENT OF HOMELAND SECURITY

Federal Emergency Management Agency

44 CFR Part 67

Final Flood Elevation Determinations

AGENCY: Federal Emergency Management Agency, Emergency Preparedness and Response Directorate, Department of Homeland Security.

ACTION: Final rule.

SUMMARY: Base (1% annual-chance) Flood Elevations and modified Base Flood Elevations (BFEs) are made final for the communities listed below. The BFEs and modified BFEs are the basis for the floodplain management measures that each community is required either to adopt or to show evidence of being already in effect in order to qualify or remain qualified for participation in the National Flood Insurance Program (NFIP).

DATES: Effective Date: The date of issuance of the Flood Insurance Rate Map (FIRM) showing BFEs and modified BFEs for each community. This date may be obtained by contacting the office where the FIRM is available for inspection as indicated in the table below.

ADDRESSES: The final base flood elevations for each community are available for inspection at the office of the Chief Executive Officer of each community. The respective addresses are listed in the table below.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: The Federal Emergency Management Agency makes the final determinations listed below for the BFEs and modified BFEs for each community listed. These modified elevations have been published in newspapers of local circulation and ninety (90) days have elapsed since that publication. The Mitigation Division Director of the Emergency Preparedness and Response Directorate has resolved any appeals resulting from this notification.

This final rule is issued in accordance with section 110 of the Flood Disaster Protection Act of 1973, 42 U.S.C. 4105, and 44 CFR part 67.

The Federal Emergency Management Agency has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act

This rule is categorically excluded from the requirements of 44 CFR part 10, Environmental Consideration. No environmental impact assessment has been prepared.

Regulatory Flexibility Act

The Mitigation Division Director of the Emergency Preparedness and Response Directorate certifies that this rule is exempt from the requirements of the Regulatory Flexibility Act because modified base flood elevations are required by the Flood Disaster Protection Act of 1973, 42 U.S.C. 4105, and are required to establish and maintain community eligibility in the NFIP. No regulatory flexibility analysis has been prepared.

Regulatory Classification

This final rule is not a significant regulatory action under the criteria of section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of section 2(b)(2) of Executive Order 12778.

List of Subjects in 44 CFR Part 67

Administrative practice and procedure, Flood insurance, Reporting and recordkeeping requirements.

Accordingly, 44 CFR part 67 is amended to read as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location of referenced elevation | * Elevation in feet (NGVD) modified ♢ Elevation in feet (NAVD) modified | Communities affected
FEMA Docket No. P7657
Lateral 1-B/Tributary No. 11:
Approximately 50 feet upstream of the confluence with Yocona-Spybuck Drainage Canal | *205 | City of Forrest City.
Approximately 2,275 feet upstream of Union Pacific Railroad | 263 | St. Francis County (Unincorporated Areas).
Spybuck Drainage Canal:
Approximately 1,165 feet downstream of Woodroe Holeman Road | *216 | City of Forrest City.
Approximately 2,300 feet upstream of Commerce Drive | *238 | St. Francis County (Unincorporated Areas).
Tributary No. 1:
Approximately 975 feet downstream of Woodroe Holeman Road | *216 | City of Forrest City.
Approximately 2,470 feet upstream of County Highway 213 | *238 | St. Francis County (Unincorporated Areas).
Tributary No. 4:
At the confluence with Tributary No. 5 | *222 | City of Forrest City.
Approximately 60 feet upstream of Dawson Road | *243 | St. Francis County (Unincorporated Areas).
Tributary No. 5:
Approximately 2,090 feet downstream of County Highway 231 | *218 | City of Forrest City.
Approximately 350 feet upstream of Entergy Drive | *239 | St. Francis County (Unincorporated Areas).
Tributary No. 6:
Approximately 1,000 feet downstream of County Highway 205 | *221 | City of Forrest City.
Approximately 5,330 feet upstream of County Highway 205 | *239 | St. Francis County (Unincorporated Areas).
Tributary No. 7:
Approximately 1,000 feet downstream of County Highway 205 | *221 | City of Forrest City.
Approximately 1,075 feet upstream of Turner Circle | *229 | St. Francis County (Unincorporated Areas).
Tributary No. 10:
At the confluence with Yocono-Spybuck Drainage Canal (MD-1) | *217 | City of Forrest City.
Approximately 5,010 feet upstream of County Highway 202/Union Pacific Railroad | *221 | St. Francis County (Unincorporated Areas).
Tributary No. 12:
At the confluence with Lateral 1-B (Tributary No. 11) | *213 | St. Francis County (Unincorporated Areas).
Approximately 4,035 feet upstream of County Highway 808 | *221 |
Tributary No. 13:
At the confluence with Tributary No. 12 | *214 | City of Forrest City.
Approximately 4,500 feet upstream of the confluence with Tributary No. 12 | *222 | St. Francis County (Unincorporated Areas).
Tributary No. 14:
At the confluence with Tributary No. 12 | *215 | City of Forrest City.
Approximately 100 feet upstream of Yocona Road | *216 | St. Francis County (Unincorporated Areas).
Tributary No. 16:
At the confluence with Tributary No. 12 | *217 | City of Forrest City.
Approximately 2,920 feet upstream of Yocona Road | *224 | St. Francis County (Unincorporated Areas).
Tributary No. 17:
Approximately 260 feet downstream of the confluence of Tributary No. 18 | *219 | St. Francis County (Unincorporated Areas).
FEMA Docket No. P7657
Approximately 4,150 feet upstream of County Highway 814 | *229 |
Tributary No. 18:
At the confluence with Tributary No. 17 | *220 | St. Francis County (Unincorporated Areas).
Approximately 2,850 feet upstream of the confluence with Tributary No. 17 | *225 |
Tributary No. 19:
At the confluence with Tributary No. 17 | *223 | St. Francis County (Unincorporated Areas).
Approximately 2,390 feet upstream of the confluence with Tributary No. 17 | *226 |
ADDRESSES
City of Forrest City
Maps are available for inspection at City Hall, 224 North Rosser, Forrest City, Arkansas.
St. Francis County (Unincorporated Areas)
Maps are available for inspection at County Courthouse, 313 South Izard Street, Forrest City, Arkansas.
FEMA Docket No. P 7649
West Nishnabotna River:
At U.S. Highway 6 | ♢ 1,077 | City of Council Bluffs, City of Oakland, Pottawattamie County (Unincorporated Areas).
Approximately 4,850 feet upstream of Honeysuckle Road/County Highway G42 | ♢ 1,088
Mosquito Creek:
Approximately 5,785 feet downstream of Interstate 29 | ♢ 980 | Pottawattamie County (Unincorporated Areas).
Approximately 1,760 feet downstream of Interstate 29 | ♢ 983 |
Mosquito Creek:
Intersection of E. South Omaha Bridge and 192nd Street | #1 | Pottawattamie County (Unincorporated Areas).
Intersection of Basswood Road and 192nd Street | #1 |
Missouri River:
Approximately 5,250 feet upstream of Interstate 480 | ♢ 985 | City of Carter Lake.
Approximately 8,925 feet upstream of Interstate 480 | ♢ 985 |
ADDRESSES
City of Carter Lake
Maps are available for inspection at City Hall, 950 Locust Street, Carter Lake, Iowa.
City of Council Bluffs
Maps are available for inspection at the Community Development Office, 403 Willow Street, Council Bluffs, Iowa. | City of Oakland
Maps are available for inspection at City Hall, 101 North Main Street, Oakland, Iowa.
Pottawattamie County (Unincorporated Areas)
Maps are available for inspection at the County Courthouse, 227 South 6th Street, Council Bluffs, Iowa.
FEMA Docket No. P 7611
Elkhorn River:
Approximately 4,800 feet downstream of 558th Avenue | *1,498 | Madison County (Unincorporated Areas). City of Tilden, Village of Meadow Grove. City of Norfolk, Village of Battle Creek.
Approximately 300 feet upstream of Center Street/534th Avenue | *1,657
Union Creek:
Approximately 1.9 miles upstream of 3rd Street | *1,589 | Madison County (Unincorporated Areas).
Approximately 1.7 miles upstream of 3rd Street | *1,588
ADDRESSES
City of Battle Creek
Maps are available for inspection at 102 South Second Street, Battle Creek, Nebraska.
Madison County (Unincorporated Areas)
Maps are available for inspection at Zoning Administration, 1112 Bonita Drive, Norfolk, Nebraska.
Village of Meadow Grove
Maps are available for inspection at 208 Main Street, Meadow Grove, Nebraska.
Maps are available for inspection at 701 Koeningstein Avenue, Norfolk, Nebraska.
City of Tilden
Maps are available for inspection at City Clerk, 202 South Center, Tilden, Nebraska.
FEMA Docket No. P 7643
Bear Creek:
Mouth at Great Miami River | *704 | Village of New Lebanon, City of Miamisburg. City of Moraine, Montgomery County (Unincorporated Areas).
At the confluence of Diehl Run (Approximately 5,600 feet upstream of U.S. Highway 35) | *881 |
Diehl Run:
Confluence at Bear Creek | *881 | Village of New Lebanon, Montgomery County (Unincorporated Areas).
Approximately 35 feet downstream of North Johnsonville Road | *960 |
Dry Run:
Just upstream of Free Pike | *804 | City of Clayton, City of Dayton, City of Trotwood, Montgomery County (Unincorporated Areas).
Approximately 710 feet upstream of Union Road | *943 |
Garber Run:
Mouth at Bear Creek | *856 | Montgomery County (Unincorporated Areas).
Approximately 6,200 feet upstream of Old Dayton Road | *934 |
Holes Creek:
Just upstream of CSX Railroad | *722 | City of Centreville, City of Moraine, City of West Carrolton, Montgomery County (Unincorporated Areas).
Approximately 200 feet upstream of Silverlake Drive | *914 |
Little Bear Creek:
Confluence at Bear Creek | *775 | Montgomery County (Unincorporated Areas).
Approximately 2,870 feet upstream of Old Dayton Road | *935 |
North Branch Wolf Creek:
Just upstream of Oakes Road | *860 | City of Clayton, City of Trotwood, Montgomery County (Unincorporated Areas).
Just downstream of Interstate 70/U.S. Highway 49 | *944 |
Poplar Creek:
Approximately 250 feet downstream of East Stonequarry Road | *865 | City of Vandalia.
Approximately 580 feet upstream of East Stonequarry Road | *875 |
Spring Run:
Confluence at Little Bear Creek | *819 | Montgomery County (Unincorporate Areas).
Approximately 2,000 feet upstream of North Snyder Road | *916 |
ADDRESSES
City of Centerville
Maps are available for inspection at Municipal Government Center, 100 West Spring Valley Road, Centerville, Ohio.
City of Clayton
Maps are available for inspection at City Administration Building, 6996 Taywood Road, Englewood, Ohio.
City of Dayton
Maps are available for inspection at Planning and Community Development Office, 101 West Third Street, Dayton, Ohio.
City of Miamisburg
Maps are available for inspection at City Annex Building, 10 North First Street, Miamisburg, Ohio.
City of Moraine
Maps are available for inspection at Community Development Department, Municipal Building, 4200 Dryden Road, Moraine, Ohio.
Village of New Lebanon
Maps are available for inspection at Municipality of New Lebanon Village Offices, 198 South Clayton Road, New Lebanon, Ohio.
City of Trotwood
Maps are available for inspection at Department of Public Works, Trotwood Government Center, 4 Strader Drive, Trotwood, Ohio.
City of Vandalia
Maps are available for inspection at City of Vandalia City Building, 333 James E. Bohanan Memorial Drive, Vandalia, Ohio 45377.
City of West Carrolton
Maps are available for inspection at City of West Carrollton Civic Center, 300 East Central Avenue, West Carrollton, Ohio.
Montgomery County
Maps are available for inspection at Montgomery County Administration Building, 451 West Third Street, Room 800, Dayton, Ohio.

>

(Catalog of Federal Domestic Assistance No. 83.100, “Flood Insurance.”)

Dated: November 17, 2004.
David I. Maurstad,
Acting Director, Mitigation Division, Emergency Preparedness and Response Directorate.

[FR Doc. 04-26600 Filed 12-2-04; 8:45 am]

BILLING CODE 9110-12-P